CORPORATION FOR NATIONAL AND COMMUNITY SERVICE

National Senior Service Corps; Schedule of Income Eligibility Levels

AGENCY: Corporation for National and Community Service.

ACTION: Notice.

SUMMARY: This Notice revises the schedules of income eligibility levels for participation in the Foster Grandparent Program (FGP) and the Senior Companion Program (SCP) of the Corporation for National and Community Service, published in 68 FR 8491, February 21, 2003.

DATES: These guidelines are effective as of March 1, 2004.

FOR FURTHER INFORMATION CONTACT: Corporation for National and Community Service, Peter L. Boynton, Senior Program Officer, National Senior Service Corps, 1201 New York Avenue, NW., Washington, DC 20525, by telephone at (202) 606-5000, ext. 554, or e-mail: seniorfeedback@cns.gov.

SUPPLEMENTARY INFORMATION: The revised schedules are based on changes in the Poverty Guidelines issued by the Department of Health and Human Services (DHHS), published in 69 FR 7336-7338, February 13, 2004. In accordance with program regulations, the income eligibility level for each State, Puerto Rico, the Virgin Islands and the District of Columbia is 125 percent of the DHHS Poverty Guidelines, except in those areas determined by the Corporation to be of higher cost of living. In such instances, the guidelines shall be 135 percent of the DHHS Poverty levels (See attached list of High Cost Areas). The level of eligibility is rounded to the next higher multiple of $5.00.

In determining income eligibility, consideration should be given to the following, as set forth in 45 CFR 2551-2553 dated October 1, 1999, as amended per the Federal Register, Vol. 67, No. 188, Friday, September 27, 2002.

Allowable medical expenses are annual out-of-pocket expenses for health insurance premiums, health care services, and medications provided to the applicant, enrollee, or spouse and were not and will not be paid for by Medicare, Medicaid, other insurance, or by any other third party, and must not exceed 15 percent of the applicable Corporation income guideline.

Annual income is counted for the past 12 months, for serving SCP and FGP volunteers, and is projected for the subsequent 12 months, for applicants to become SCP and FGP volunteers, and includes: The applicant or enrollee's income and the applicant or enrollee's spouse's income, if the spouse lives in the same residence. Sponsors must count the value of shelter, food, and clothing, if provided at no cost the applicant, enrollee or spouse. Any person whose income is not more than 100 percent of the DHHS Poverty Guideline for her/his specific family unit shall be given special consideration for participation in the Foster Grandparent and Senior Companion Programs:

2004 FGP/SCP Income Eligibility Levels
[Based on 125 Percent of DHHS Poverty Guidelines]
States | Family units of: One | Family units of: Two | Family units of: Three | Family units of: Four
All, except High Cost Areas, Alaska & Hawaii. | $11,640 | $15,615 | $19,590 | $23,565

For family units with more than four members, add $3,975 for each additional member in all States except designated High Cost Areas, Alaska and Hawaii.

2004 FGP/SCP Income Eligibility Levels for High Cost Areas
[Based on 135 Percent of DHHS Poverty Guidelines]
States | Family units of: One | Family units of: Two | Family units of: Three | Family units of: Four
All, except Alaska & Hawaii | $12,570 | $16,865 | $21,155 | $25,450
Alaska | 15,705 | 21,075 | 26,450 | 31,820
Hawaii | 14,445 | 19,390 | 24,330 | 29,270

For family units with more than four members, add: $4,295 for all areas, $5,375 for Alaska, and $4,945 for Hawaii, for each additional member.

The income eligibility levels specified above are based on 135 percent of the DHHS poverty guidelines and are applicable to the following high cost metropolitan statistical areas and primary metropolitan statistical areas:

High Cost Areas:

(Including all Counties/Locations Included in that Area as Defined by the Office of Management and Budget)

Alaska:

(All Locations)

California:

Los Angeles/Compton/San Gabriel/Long Beach/Hawthorne (Los Angeles County)

Santa Barbara/Santa Maria/Lompoc (Santa Barbara County)

Santa Cruz/Watsonville (Santa Cruz County)

Santa Rosa/Petaluma (Sonoma County)

San Diego/El Cajon (San Diego County)

San Jose/Los Gatos (Santa Clara County)

San Francisco/San Rafael (Marin County)

San Francisco/Redwood City (San Mateo County)

San Francisco (San Francisco County)

Oakland/Berkeley (Alameda County)

Oakland/Martinez (Contra Costa County)

Anaheim/Santa Ana (Orange County)

Oxnard/Ventura (Ventura County)

Connecticut:

Stamford (Fairfield)

District of Columbia/Maryland/Virginia:

District of Columbia and surrounding Counties in Maryland and Virginia.

MD Counties: Anne Arundel, Calvert, Charles, Cecil, Frederick, Howard, Montgomery, Prince George's, and Queen Anne's Counties.

VA Counties: Arlington, Fairfax, Loudoun, Prince William, Stafford, Alexandria City, Fairfax City, Falls Church City, Manassas City, and Manassas Park City.

Hawaii:

(All Locations)

Illinois:

Chicago/Des Plaines/Oak Park/Wheaton/Woodstock (Cook, DuPage and McHenry Counties)

Massachusetts:

Barnstable (Barnstable)

Edgartown (Dukes)

Boston/Malden (Essex, Norfolk, Plymouth, Middlesex and Suffolk Counties)

Worcester (Worcester City)

Brockton/Wellesley/Braintree/Boston (Norfolk County)

Dorchester/Boston (Suffolk County)

Worcester (City) (Worcester County)

New Jersey:

Bergen/Passaic/Patterson (Bergen and Passaic Counties)

Jersey City (Hudson)

Middlesex/Somerset/Hunterdon (Hunterdon, Middlesex and Somerset Counties)

Monmouth/Ocean/Spring Lake (Monmouth and Ocean Counties)

Newark/East Orange (Essex, Morris, Sussex and Union Counties)

Trenton (Mercer County)

New York:

Nassau/Suffolk/Long Beach/Huntington (Suffolk and Nassau Counties)

New York/Bronx/Brooklyn (Bronx, King, New York, Putnam, Queens, Richmond and Rockland Counties) Westchester/White Plains/Yonkers/Valhalla (Westchester County)

Ohio:

Medina/Lorain/Elyria (Medina/Lorain County)

Pennsylvania:

Philadelphia/Doylestown/West Chester/Media/Norristown (Bucks, Chester, Delaware, Montgomery and Philadelphia Counties)

Washington:

Seattle (King County)

Wyoming:

(All Locations)

The revised income eligibility levels presented here are calculated from the base DHHS Poverty Guidelines now in effect as follows:

2004 DHHS Poverty Guidelines for All States
States | Family Units of: One | Family Units of: Two | Family Units of: Three | Family Units of: Four
All, except Alaska & Hawaii | $9,310 | $12,490 | $15,670 | $18,850
Alaska | 11,630 | 15,610 | 19,590 | 23,570
Hawaii | 10,700 | 14,360 | 18,020 | 21,680

For family units with more than four members, add: $3,180 for all areas, $3,980 for Alaska, and $3,660 for Hawaii, for each additional member.

Authority: These programs are authorized pursuant to 42 U.S.C. 5011 and 5013 of the Domestic Volunteer Service Act of 1973, as amended. The income eligibility levels are determined by the current guidelines published by DHHS pursuant to Sections 652 and 673(2) of the Omnibus Budget Reconciliation Act of 1981 which requires poverty guidelines to be adjusted for Consumer Price Index changes.

Dated: March 24, 2004.
Angela Roberts,
Senior Program Officer, National Senior Service Corps.

[FR Doc. 04-7081 Filed 3-29-04; 8:45 am]

BILLING CODE 6050-$$-P